DEPARTMENT OF HEALTH AND HUMAN SERVICES

Substance Abuse and Mental Health Services Administration

Request for Comments Regarding the Prevention, Identification, and Treatment of Co-occurring Disorders—Extension of Due Date

In compliance with section 503A of the Public Health Service Act (42 U.S.C. 290aa-2a), the Substance Abuse and Mental Health Services Administration (SAMHSA) is required to provide to the United States Congress a report on the prevention, identification, and treatment of co-occurring disorders. Public comment is solicited in order to aid in the development of this report. On March 6, 2002, SAMHSA published a notice requesting written input on this subject to be provided by March 27, 2002.

DATES: The new deadline for receipt of public comment has been extended until April 5, 2002.

ADDRESSES: All comments should be sent to James Winarski; Advocates for Human Potential; 323 Boston Post Road; Sudbury, MA 01776.

FOR FURTHER INFORMATION CONTACT: Eileen Elias, M.Ed., Special Expert, SAMHSA, 301-443-8742.

Dated: March 19, 2002.
Richard Kopanda,
Executive Officer, SAMHSA.

[FR Doc. 02-7030 Filed 3-22-02; 8:45 am]

BILLING CODE 4162-20-M